DEPARTMENT OF TRANSPORTATION

Federal Transit Administration

[FTA Docket No. FTA-99-6417]

Intelligent Transportation System; Architecture and Standards

AGENCY: Federal Transit Administration (FTA), DOT.

ACTION: Extension of comment period.

SUMMARY: On May 25, 2000, FTA issued a notice requesting comments on the proposed National Intelligent Transportation Systems (ITS) Architecture Policy for project development, requesting comments to be submitted by August 23, 2000. This document extends this rulemaking's comment period for 30 days, until September 23, 2000, in response to requests for additional time to assess the impact of this rule on the nation's highway and transit systems and to provide meaningful comments.

DATES: Comments should be received no later than September 23, 2000. Late comments will be considered to the extent practicable.

ADDRESSES: All, signed, written comments must refer to the docket number appearing at the top of this document and must be submitted to the Docket Clerk, U.S. DOT Dockets, Room PL-401, 400 Seventh Street, S.W., Washington, D.C. 20590-0001. Comments may also be submitted electronically to the docket following the instructions located at http://dmses.dot.gov/submit/

All comments received will be available for examination at the above address between 9 a.m. and 5 p.m., Eastern Time, Monday through Friday, except Federal holidays. Comments may also be viewed electronically via the Department of Transportation's online Document Management System (DMS) at http://dms.dot.gov. Viewers can download copies of this proposed rule and all comments 24-hours a day, 365 days a year. The notice is also posted in PDF and HTML on the FTA website at http://www.fta.dot.gov/library/legal/fr00toc.htm. Internet users may view this and other rulemaking documents via the Office of the Federal Register's homepage at http://www.nara.gov/fedreg or through the U.S. Government Printing Office's homepage at http://www.access.gpo.gov/nara. Those desiring notification of receipt of comments must include a self-addressed, stamped envelope or postcard.

FOR FURTHER INFORMATION CONTACT: Mr. Ronald Boenau, Chief, FTA Advanced Public Transportation Systems Division (TRI-11) at (202) 366-0195, or Mr. Brian Cronin, Advanced Public Transportation Systems Division (TRI-11) at (202) 366-8841. For legal information, contact Ms. Linda Sorkin, FTA Office of Chief Counsel (TCC-20) at (202) 366-1936.

SUPPLEMENTARY INFORMATION: On May 25, 2000 (65 FR 34002), FTA published an NPRM proposing the establishment of regulations to implement a portion of Section 5206(e) of the TEA-21 which requires ITS projects funded from the highway trust fund to conform to the National ITS Architecture, applicable or provisional standards, and protocols.

Since that date, FTA has received requests from the American Association of State Highway and Transportation Officials, the American Public Transportation Association, the Association of Metropolitan Planning Organizations, and several State Departments of Transportation to extend the comment period. These groups voiced concerns that the proposed rule was extremely complex and that 90 days was insufficient time to assess the impact of the proposed rules and provide meaningful comments. We agree that more time for an in-depth analysis of the NPRM would be beneficial to FTA in this rulemaking. For these reasons, FTA is extending the comment period by 30 days, until September 23, 2000.

Authority: 23 U.S.C. 134 and 315; 42 U.S.C. 7410 et seq; 49 U.S.C. 5303-5309; 49 CFR 1.8 and 1.51.

Dated: August 9, 2000.
Nuria I. Fernandez,
Acting Administrator, Federal Transit Administration.

[FR Doc. 00-20594 Filed 8-14-00; 8:45 am]

BILLING CODE 4910-57-M